NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 5, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application 2013-017

1. Applicant: Michael J. Polito, Department of Biology, Woods Hole Oceanographic Institution, Woods Hole Road, Woods Hole, MA 02543.

Activity for Which Permit Is Requested

Take and enter Antarctic Specially Protected Areas. The applicant plans to capture and handle adult penguins (Gentoo, Chinstrap and Adelie) to obtain small samples of body and tail feathers. These samples will be analyzed for mitochondrial and nuclear (microsatellites) DNS markers, molecular sexing and eventually stable isotope analysis to help interpret population and migratory connectivity. At a maximum of 10 sites, approximately 50 individuals of each species will be sampled for a maximum of 500 individuals of each species. The applicant plans to enter the following sites on an opportunistic basis: ASPA 107-Dion Islands; ASPA 108-Green Island; ASPA 109-Moa Island; ASPA 110-Lynch Island; ASPA 111-Southern Powell Island and adjacent islands; ASPA 112-Coppermine Peninsula, Robert Island; ASPA 113-Litchfield Island; ASPA 114-North Coronation Island; ASPA 115-Lagotellerie Island; ASPA 117-Avian Island; ASPA 125-King George Island; ASPA 126-Livingston Island; ASPA 128-Western shore of Admiralty Bay; ASPA 132-Potter Peninsula; ASPA 133-Harmony Point, Nelson Island; ASPA 134-Cierva Point, Danco Coast; ASPA 139-Biscoe Point, Anvers Island; and ASPA 149-Cape Shirreff, Livingston Island, and ASPA 150-Ardley Island.

Location

ASPA 107-Dion Islands; ASPA 108-Green Island; ASPA 109-Moa Island; ASPA 110-Lynch Island; ASPA 111-Southern Powell Island and adjacent islands; ASPA 112-Coppermine Peninsula, Robert Island; ASPA 113-Litchfield Island; ASPA 114-North Coronation Island; ASPA 115-Lagotellerie Island; ASPA 117-Avian Island; ASPA 125-King George Island; ASPA 126-Livingston Island; ASPA 128-Western shore of Admiralty Bay; ASPA 132-Potter Peninsula; ASPA 133-Harmony Point, Nelson Island; ASPA 134-Cierva Point, Danco Coast; ASPA 139-Biscoe Point, Anvers Island; and ASPA 149-Cape Shirreff, Livingston Island, and ASPA 150-Ardley Island.

Dates

October 1, 2012 to September 31, 2013.

Nadene G. Kennedy,
Permit Officer, Office of Polar Programs.

[FR Doc. 2012-19114 Filed 8-3-12; 8:45 am]

BILLING CODE 7555-01-P